DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with September anniversary dates. In accordance with the Department's regulations, we are initiating those administrative reviews.

DATES: Effective Date: October 31, 2012.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with September anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews:

In accordance with 19 CFR 351.221(c)(1)(i), we are initiating administrative reviews of the following antidumping and countervailing duty orders and findings. We intend to issue the final results of these reviews not later than September 30, 2013.

| Period to be reviewed
Antidumping Duty Proceedings
India: Certain Lined Paper Products, A-533-843 | 9/1/11-8/31/12
Abhay International
Abhinav Paper Products Pvt. Ltd.
Agility Logistics Private Limited
Almore Industries
American Scholar, Inc. and/or I-Scholar
AR Printing & Packaging (India) Pvt. Ltd.
Artisan
Akar Limited
A.L. Paper House
Ampoules & Vitals Mfg. Co. Ltd.
Apl Logistics India Pvt. Ltd.
Artesign Impex
Arun Art Printers Pvt. Ltd.
Aryan Worldwide
Avm International
Bafna Exports
Cargomar Pvt. Ltd.
Cello International Pvt. Ltd. (M/S Cello Paper Products)
Chitra Exports
Corporate Stationery Pvt. Ltd.
Crane Worldwide Logistics Ind. Pvt.
Creative Divya
D.D. International
Diki Continental Exports
Dhote Offset Technokrafts Pvt.
Eagle Press
Exel India (Pvt.) Ltd.
Exim Transtrade (India) Pvt. Ltd.
Exmart International Pvt. Ltd.
Espo Trading Pvt. Ltd.
Expeditors International (India) Pvt/Expeditors Cargo Mgmt. Systems
Fatechand Mahendrakumar
FFI International
Freight India Logistics Pvt. Ltd.
Gauriputra International Ltd.
Gayatri International
Goldenpalm Manufacturers (Pvt.) Ltd.
Goyal Crafts
International Greetings Pvt. Ltd.
Karur K.C.P. Packagings Ltd.
Kejriwal Paper Ltd. and Kejriwal Exports
Krati Handcraft
Lodha Offset Limited
Luxor International Pvt. Ltd.
M.S. The Bell Match Company
Magic International Pvt. Ltd.
Mahavideh Foundation
Marisa International
Navneet Publications (India) Ltd.
Nemlaxmi Books (India) Pvt. Ltd.
Noble Shipping Pvt. Ltd.
Orient Press Ltd.
Pacific Paper Products
Paperwise Inc.
Pathfinder Business Analysis (P) Lt.
Phalada Agro Research Foundations
Pioneer Stationery Pvt. Ltd.
Polaris Software Lab Limited
Premier Exports
Pragati Offset Pvt. Ltd.
Raghunath Exporters
Rajvansh International
Ratan Papers Pvt. Ltd.
Riddhi Enterprises
SAB International
SAI Suburi International
SAR Transport Systems
SDV Intl Logistics Ltd.
Seet Kamal International
SGM Paper Products
Shivam Handicrafts
Soham Udyog
Sonal Printers Pvt. Ltd.
Sundaram Multi Pap. Ltd. Super Impex
Super Quality Impex
Swati Growth Funds Ltd.
Swift Freight (India) Pvt. Ltd.
Ultra Engineers
V&M
Yash Laminates
Xylem Papercraft Pvt. Ltd.
Taiwan: Narrow Woven Ribbons with Woven Selvedge, A-583-844 | 9/1/11-8/31/12
Apex Ribbon
Apex Trimmings Inc. (d.b.a. Papillon Ribbon & Bow (Canada))
Hubschercorp
Intercontinental Skyline
Multicolor
Pacific Imports
Shienq Huong Enterprise Co., Ltd./Hsien Chan Enterprise Co., Ltd./Novelty Handicrafts Co., Ltd.³
Supreme Laces Inc.
The People's Republic of China: Certain Kitchen Appliance Shelving and Racks,⁴ A-570-941 | 9/1/11-8/31/12
Jiangsu Weixi Group Co.
New King Shan (Zhu Hai) Co., Ltd.
The People's Republic of China: Certain Lined Paper Products,⁵ A-570-901 | 9/1/11-8/31/12
Hwa Fuh Plastic Co., Ltd./Li Teng Plastics (Shenzhen) Co., Ltd.
Shanghai Lian Li Paper Products Co., Ltd. (“Lian Li”)
Leo's Quality Products Co., Ltd./Denmax Plastic Stationary Factory
The People's Republic of China: Certain Magnesia Carbon Bricks,⁶ A-570-954 | 9/1/11-8/31/12
Fengchi Imp. & Exp. Co., Ltd. of Haicheng City
Yingkou Bayuquan Refractories Co., Ltd.
The People's Republic of China: Certain New Pneumatic Off-the-Road Tires,⁷ A-570-912 | 9/1/11-8/31/12
Hangzhou Zhongce Rubber Co., Ltd.
Shandong Linglong Tyre Co., Ltd.
The People's Republic of China: Freshwater Crawfish Tail Meat,⁸ A-570-848 | 9/1/11-8/31/12
China Kingdom (Beijing) Import & Export Co., Ltd.
Nanjing Gemsen International Co., Ltd.
Shanghai Ocean Flavor International Trading Co., Ltd.
Xiping Opeck Food Co., Ltd.
Xuzhou Jinjiang Foodstuffs Co., Ltd.
Yancheng Hi-King Agriculture Developing Co., Ltd.
The People's Republic of China: Narrow Woven Ribbons with Woven Selvedge,⁹ A-570-952 | 9/1/11-8/31/12
Apex Ribbon
Apex Trimmings Inc. d/b/a Papillon Ribbon & Bow (Canada)
Hubscher Ribbon Corp., Ltd. d/b/a Hubschercorp
Intercontinental Skyline
Multicolor
Pacific Imports
Supreme Laces Inc.
Weifang Dongfang Ribbon Weaving Co., Ltd.
Yama Ribbons and Bows Co., Ltd.
Yangzhou Bestpak Gifts & Crafts Co., Ltd.
Countervailing Duty Proceedings
India: Certain Lined Paper Products, C-533-844 | 1/1/11-12/31/11
Abhay International
Abhinav Paper Products Pvt. Ltd.
Agility Logistics Private Limited
Almore Industries
American Scholar, Inc. and/or I-Scholar
AR Printing & Packaging (India) Pvt. Ltd.
Artisan
Akar Limited
A.L. Paper House
Ampoules & Vitals Mfg. Co. Ltd.
Apl Logistics India Pvt. Ltd.
Artesign Impex
Arun Art Printers Pvt. Ltd.
Aryan Worldwide
Avm International
Bafna Exports
Cargomar Pvt. Ltd.
Cello International Pvt. Ltd. (M/S Cello Paper Products)
Chitra Exports
Corporate Stationery Pvt. Ltd.
Crane Worldwide Logistics Ind Pvt.
Creative Divya
D.D. International
Diki Continental Exports
Dhote Offset Technokrafts Pvt.
Eagle Press
Exel India (Pvt.) Ltd.
Exim Transtrade (India) Pvt. Ltd.
Exmart International Pvt. Ltd.
Espo Trading Pvt. Ltd.
Expeditors International (India) Pvt/Expeditors Cargo Mgmt. Systems
Fatechand Mahendrakumar
FFI International
Freight India Logistics Pvt. Ltd.
Gauriputra International Ltd.
Gayatri International
Goldenpalm Manufacturers (Pvt) Ltd.
Goyal Crafts
International Greetings Pvt. Ltd.
Karur K.C.P. Packagings Ltd.
Kejriwal Paper Ltd. and Kejriwal Exports
Krati Handcraft
Lodha Offset Limited
Luxor International Pvt. Ltd.
M.S. The Bell Match Company
Magic International Pvt. Ltd.
Mahavideh Foundation
Marisa International
Navneet Publications (India) Ltd.
Nemlaxmi Books (India) Pvt. Ltd.
Noble Shipping Pvt. Ltd.
Orient Press Ltd.
Pacific Paper Products
Paperwise Inc.
Pathfinder Business Analysis (P) Lt.
Phalada Agro Research Foundations
Pioneer Stationery Pvt. Ltd.
Polaris Software Lab Limited
Premier Exports
Pragati Offset Pvt. Ltd.
Raghunath Exporters
Rajvansh International
Ratan Papers Pvt. Ltd.
Riddhi Enterprises
SAB International
SAI Suburi International
SAR Transport Systems
SDV Intl Logistics Ltd.
Seet Kamal International
SGM Paper Products
Shivam Handicrafts
Soham Udyog
Sonal Printers Pvt. Ltd.
Sundaram Multi Pap Ltd. Super Impex
Super Quality Impex
Swati Growth Funds Ltd.
Swift Freight (India) Pvt. Ltd.
Ultra Engineers
V&M
Yash Laminates
Xylem Papercraft Pvt. Ltd.
The People's Republic of China: Certain Kitchen Appliance Shelving and Racks, C-570-942 | 9/1/11-8/31/12
Jiangsu Weixi Group Co.
New King Shan (Zhu Hai) Co., Ltd.
The People's Republic of China: Certain Magnesia Carbon Bricks, C-570-955 | 1/1/11-12/31/11
Fengchi Imp. & Exp. Co., Ltd. of Haicheng City and Fengchi Refractories Co., of Haicheng City
Yingkou Bayuquan Refractories Co., Ltd.

Suspension Agreements

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

³ The Department received a request for an administrative review of the antidumping duty order on narrow woven ribbons (“NWR”) from Taiwan with respect to Shienq Huong Enterprise Co., Ltd., Hsien Chan Enterprise Co., Ltd. and Novelty Handicrafts Co., Ltd. (collectively, “the Shienq Huong Group”). NWR produced and exported in any of 26 producer/exporter combinations involving the Shienq Huong Group is excluded from the order. See Narrow Woven Ribbons With Woven Selvedge From Taiwan and the People's Republic of China: Antidumping Duty Orders, 75 FR 53632, 53633 (Sept. 1, 2010). This administrative review covers NWR produced or exported by the Shienq Huong Group which is not specifically excluded from the order.

⁴ If the above-named company does not qualify for a separate rate, all other exporters of Certain Kitchen Appliance Shelving and Racks from the PRC who have not qualified for a separate rate are deemed to be covered by this review as part of the single PRC entity of which the named exporters are a part.

⁵ If the above-named company does not qualify for a separate rate, all other exporters of Certain Lined Paper Products from the PRC who have not qualified for a separate rate are deemed to be covered by this review as part of the single PRC entity of which the named exporters are a part.

⁶ If the above-named company does not qualify for a separate rate, all other exporters of Certain Magnesia Carbon Bricks from the PRC who have not qualified for a separate rate are deemed to be covered by this review as part of the single PRC entity of which the named exporters are a part.

⁷ If the above-named company does not qualify for a separate rate, all other exporters of Certain New Pnuematic Off-the-Road Tires from the PRC who have not qualified for a separate rate are deemed to be covered by this review as part of the single PRC entity of which the named exporters are a part.

⁸ If the above-named company does not qualify for a separate rate, all other exporters of Freshwater Crawfish Tail Meat from the PRC who have not qualified for a separate rate are deemed to be covered by this review as part of the single PRC entity of which the named exporters are a part.

⁹ If the above-named company does not qualify for a separate rate, all other exporters of Narrow Woven Ribbons with Woven Selvedge from the PRC who have not qualified for a separate rate are deemed to be covered by this review as part of the single PRC entity of which the named exporters are a part.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 USC 1675(a)) and 19 CFR 351.221(c)(1)(i).

Dated: October 23, 2012.
Christian Marsh,
Deputy Assistant Secretary for Antidumping and Countervailing Duty Operations.

[FR Doc. 2012-26800 Filed 10-30-12; 8:45 am]

BILLING CODE 3510-DS-P